DEPARTMENT OF DEFENSE

Department of the Air Force

Office of the Secretary of the Air Force; Withdrawal of Group Application Under Public Law 95-202 and Department of Defense Directive (Dodd) 1000.20; Civilian Sailors Who Served on Service Ships Under Contract to the U.S. Navy in World War II During the Period July 1, 1944, Through December 31, 1945

At the request of the application's author, the Department of Defense Civilian/Military Service Review Board (C/MSRB) has approved the withdrawal of an application, previously accepted under the provisions of Section 401, Public Law 95-202 and DoD Directive 1000.20. The withdrawal is without prejudice to the resubmission of the application at a later date. The application was on behalf of the group known as: “Civilian Sailors Who Served on Service Ships Under Contract to the U.S. Navy in World War II During the Period July 1, 1944, Through December 21, 1945.” FOR FURTHER INFORMATION CONTACT: DoD C/MSRB, Secretary of the Air Force Personnel Council, 1535 Command Dr., EE-Wing, 3rd Fl., Andrews AFB, MD 20762-7002.

Bruno Leuyer,
Air Force Federal Register Liaison Officer.

[FR Doc. 05-15498 Filed 8-4-05; 8:45 am]

BILLING CODE 5000-04-P